DEPARTMENT OF VETERANS AFFAIRS

Veterans and Community Oversight and Engagement Board, Notice of Meeting

The Department of Veterans Affairs (VA) gives notice under the Federal Advisory Committee Act, 5 U.S.C. Ch. 10, that the Veterans and Community Oversight and Engagement Board will meet on June 26, 2024, at 11301 Wilshire Boulevard, Building 500, Room 1281, Los Angeles, CA. The meeting session will begin and end as follows:

Date | Time
June 26, 2024 | 8:30 p.m. to 5:30 p.m. Pacific Standard Time (PST).

The meetings are open to the public and recorded.

The Board was established by the West Los Angeles Leasing Act of 2016 on September 29, 2016. The purpose of the Board is to provide advice and recommendations to the Secretary of Veterans Affairs to improve services and outcomes for Veterans, members of the Armed Forces and families of such Veterans and members; and provide advice and recommendations on the Draft Master Plan approved by the Secretary on January 28, 2016, and on the creation and implementation of any other successor master plans.

On June 26, the agenda will include opening remarks from the Board Leadership, Department of Veterans Leadership, Chief Veterans Experience Officer. There will be opening remarks from the Senior Executive Homelessness Agent (Greater Los Angeles), and VA Greater Los Angeles Healthcare System (VAGLAHS) leadership. The Office of Asset Enterprise Management will provide an update on Enhance Use Lease funding, followed by an update from the West Los Angeles Veterans Collective on construction progress and permanent supportive housing and associated funding commitments. The VAGLAHS will provide a presentation on long-term West Los Angeles redevelopment plans with special emphasis on the areas North of Wilshire Boulevard. Los Angeles County Metropolitan Transportation Authority has been invited to provide a comprehensive update on the proposed artwork for its Purple/D line station currently under construction at West Los Angeles. The VA Office of Security & Law Enforcement will provide information regarding VA policies that impact VA Police Operations at VAGLAHS and more broadly VA Police in general. The Board's subcommittees on Outreach and Community Engagement with Services and Outcomes, and Master Plan with Services and Outcomes will report on activities since the last meeting, followed by an out brief to the full Board on any draft recommendations considered for forwarding to the Secretary of Veterans Affairs.

Members of the public can attend the meeting via Webex by joining from the meeting link below. The link will be active from 8:00 a.m. to 6:00 p.m. PST on June 26, 2024.

Time will be allocated for receiving public comments on June 26, 2024 from 12:45 p.m.-1:45 p.m. PST. Individuals wishing to make public comments should contact Chihung Szeto at 562-708-9959 or at Chihung.Szeto@va.gov and are requested to submit a 1-2-page summary of their comments for inclusion in the official meeting record. Only those members of the public (first 12 public comment registrants) who have confirmed registrations to provide public comment will be allowed to provide public comment. In the interest of time, each speaker will be held to 5-minutes time limit. The Board will accept written comments from interested parties on issues outlined in the meeting agenda, from June 24 through July 3, 2024. Members of the public not able to attend in person can attend the meeting via WEBEX by joining from the meeting link below. The link will be active from 8:00 a.m.-6:00 p.m. (PDT), 26 June 2024.

Veterans and Community Oversight and Engagement Board (VCOEB) 06-26-2024

https://veteransaffairs.webex.com/veteransaffairs/j.php?MTID=mbde01cbc957c8bee911c23be13460650

Wednesday, June 26, 2024, 8:00 a.m. | 10 hours | Pacific Time (US & Canada).

Meeting number: 2823 039 1409.

Password: fqGjmB7y$97.

Agenda: TBD.

Join by video system: Dial 28230391409@veteransaffairs.webex.com.

You can also dial 207.182.190.20 and enter your meeting number.

Any member of the public seeking additional information should contact Mr. Eugene W. Skinner Jr. at (202) 631-7645 or at Eugene.Skinner@va.gov.

Dated: May 20, 2024.
Jelessa M. Burney,
Federal Advisory Committee Management Officer.

[FR Doc. 2024-11347 Filed 5-22-24; 8:45 am]

BILLING CODE 8320-01-P